DEPARTMENT OF TRANSPORTATION

Surface Transportation Board

[STB Finance Docket No. 34699]

Georgia Southwestern Railroad, Inc.—Acquisition and Operation Exemption—Central of Georgia Railroad Company

Georgia Southwestern Railroad, Inc. (GSWR), a Class III rail carrier, has filed a verified notice of exemption under 49 CFR 1150.41 to acquire from Central of Georgia Railroad Company (CGA) and operate approximately 43 miles of rail line, extending from milepost R-120 at Florida Rock to milepost R-55.0 at Allie, in Harris and Meriwether Counties, GA. The transaction also includes the acquisition by GSWR of 12.2 miles of incidental trackage rights, extending from milepost M-290.3 at South Columbus through milepost M-290.9/P-290.9 at Columbus and milepost P-291.7/R-1.2 at West Columbus to milepost R-12.0 at Florida Rock, in Harris and Muscogee Counties, GA.

The transaction was scheduled to be consummated on May 20, 2005. GSWR certifies that its projected annual revenues as a result of this transaction would not exceed $5 million and would not result in the creation of a Class II or Class I rail carrier.

If the notice contains false or misleading information, the exemption is void ab initio. Petitions to revoke the exemption under 49 U.S.C. 10502(d) may be filed at any time. The filing of a petition to revoke will not automatically stay the transaction.

An original and 10 copies of all pleadings, referring to STB Finance Docket No. 34699, must be filed with the Surface Transportation Board, 1925 K Street, NW., Washington, DC 20423-0001. In addition, one copy of each pleading must be served on Louis E. Gitomer, Esq., Ball Janik LLP, 1455 F Street, NW., Suite 225, Washington, DC 20005.

Board decisions and notices are available on our Web site at http://www.stb.dot.gov.

Decided: May 12, 2005.
By the Board, David M. Konschnik, Director, Office of Proceedings.
Vernon A. Williams,
Secretary.

[FR Doc. 05-9993 Filed 5-19-05; 8:45 am]

BILLING CODE 4915-01-P